DEPARTMENT OF COMMERCE

International Trade Administration

[A-570-867]

Automotive Replacement Glass Windshields From the People's Republic of China: Postponement of Preliminary Determination of Antidumping Duty Investigation

AGENCY: Import Administration, International Trade Administration, Department of Commerce.

ACTION: Notice of postponement of preliminary determination of antidumping duty investigation.

EFFECTIVE DATE: July 23, 2001.

FOR FURTHER INFORMATION CONTACT: Rick Johnson at (202) 482-3818; Import Administration, International Trade Administration, U.S. Department of Commerce, 14th Street and Constitution Avenue NW., Washington, DC 20230.

Statutory Time Limits

Section 733(b)(1)(A) of the Tariff Act of 1930, as amended (the Act), requires the Department of Commerce (the Department) to issue the preliminary determination of an antidumping duty investigation within 140 days after the date of initiation. However, if the case is extraordinarily complicated and additional time is necessary to make the preliminary determination, and the parties concerned are cooperating in the investigation, section 733(c)(1)(B) of the Act allows the Department to extend the time limit for the preliminary determination until not later than 190 days after the date of initiation.

Background

On March 20, 2001, the Department initiated the above-referenced investigation. See Notice of Initiation of Antidumping Duty Investigation: Automotive Replacement Glass Windshields from the People's Republic of China, 66 FR 16651 (March 27, 2001). The preliminary determination is currently due no later than August 7, 2001.

Postponement of Preliminary Determination

The Department has now concluded, consistent with section 733(c)(1)(B) of the Act, that this investigation is extraordinarily complicated, and that additional time is necessary to issue the preliminary determination due to the complexity of certain issues raised in this case. Specifically, the Department is investigating a novel product with complex issues related to the scope of the investigation, as well as to the development and identification of appropriate criteria used to define individual models for margin comparison purposes. Moreover, because this case involves a non-market economy country, an extremely large number of surrogate values must be obtained and analyzed in order to construct normal values for the voluminous number of individual models reported by the mandatory respondents in this investigation.

Therefore, in light of the fact that the parties to this proceeding have been cooperating, pursuant to section 733(c)(1) of the Act, and that additional time is necessary to make this preliminary determination in accordance with section 733(c)(1)(B)(ii) of the Act, the Department is postponing the deadline for issuing this determination until August 31, 2001.

Dated: July 17, 2001.
Faryar Shirzad,
Assistant Secretary for Import Administration.

[FR Doc. 01-18340 Filed 7-20-01; 8:45 am]

BILLING CODE 3510-DS-P